SMALL BUSINESS ADMINISTRATION

[License No. 06/06-0356]

Independent Bankers Capital Fund IV, L.P.; Notice Seeking Exemption Under the Small Business Investment Act, Conflicts of Interest

Notice is hereby given that Independent Bankers Capital Fund IV, L.P., 5949 Sherry Lane, Suite 1472, Dallas, TX 75225, a Federal Licensee under the Small Business Investment Act of 1958, as amended (“Act”), in connection with the financing of a small concern, has sought an exemption under Section 312 of the Act and 13 CFR 107.730 of the Code of Federal Regulations, Financings which Constitute Conflict of Interest, Independent Bankers Capital Fund IV, L.P. (“Licensee”) is proposing to provide financing to Central States Bus Sales, Inc. (“Company”) to support its growth.

The proposed transaction is brought within the purview of 13 CFR 107.730 because Diamond State Ventures II, L.P. (“DSV”), an Associate of Licensee as defined in 13 CFR 107.50, holds a 10% or greater equity interest in the Company. By virtue of DSV's equity ownership of the Company, the Company is also considered an Associate of the Licensee.

Therefore, the proposed transaction requires a regulatory exemption pursuant to 13 CFR 107.730. Notice is hereby given that any interested person may submit written comments on the transaction within fifteen days of the date of this publication to the Associate Administrator, Office of Investment and Innovation, U.S. Small Business Administration, 409 Third Street SW, Washington, DC 20416.

Bailey DeVries,
Associate Administrator, Office of Investment and Innovation, U.S. Small Business Administration.

[FR Doc. 2023-22441 Filed 10-10-23; 8:45 am]

BILLING CODE P